DEPARTMENT OF HEALTH AND HUMAN SERVICES

Centers for Disease Control and Prevention

Delegation of Authority; International Cooperation

Notice is hereby given that I have delegated to the Director, Center for Global Health, Centers for Disease Control and Prevention (CDC) without authority to redelegate, the authority vested in the Director, CDC, under section 307 of the Public Health Service (PHS) Act (42 U.S.C. 242(1)).

This delegation became effective upon date of signature. I hereby affirm and ratify any actions taken that involve the exercise of the authorities delegated herein prior to the effective date of this delegation.

Dated: July 3, 2012.
Thomas R. Frieden,
Director, CDC.

[FR Doc. 2012-18466 Filed 7-30-12; 8:45 am]

BILLING CODE 4160-18-M